DEPARTMENT OF TRANSPORTATION

Federal Aviation Administration

14 CFR Part 71

[Docket No. FAA-2016-6967; Airspace Docket No. 16-AWP-7]

Amendment of Class E Airspace; Santa Rosa, CA

AGENCY: Federal Aviation Administration (FAA), DOT.

ACTION: Final rule.

SUMMARY: This action modifies Class E airspace designated as an extension to a Class D airspace at Charles M. Schulz-Sonoma County Airport, Santa Rosa, CA, by reducing the northwest segment and adding a segment southeast of the airport, and adds part-time Notice to Airmen (NOTAM) information. This action also amends Class E airspace extending upward from 700 feet above the surface to include only that area required for the safety and management of Instrument Flight Rules (IFR) operations at the airport. Further, the proposed change to the geographic coordinates of the airport for the Class D and E airspace areas is not finalized in this action because those changes were made in a prior rulemaking.

DATES: Effective 0901 UTC, April 27, 2017. The Director of the Federal Register approves this incorporation by reference action under Title 1, Code of Federal Regulations, part 51, subject to the annual revision of FAA Order 7400.11 and publication of conforming amendments.

ADDRESSES: FAA Order 7400.11, Airspace Designations and Reporting Points, and subsequent amendments can be viewed on line at http://www.faa.gov/air_traffic/publications/. For further information, you can contact the Airspace Policy Group, Federal Aviation Administration, 800 Independence Avenue SW., Washington, DC, 20591; telephone: 202-267-8783. The Order is also available for inspection at the National Archives and Records Administration (NARA). For information on the availability of this material at NARA, call 202-741-6030, or go to http://www.archives.gov/federal_register/code_of_federal-regulations/ibr_locations.html.

FAA Order 7400.11, Airspace Designations and Reporting Points, is published yearly and effective on September 15.

FOR FURTHER INFORMATION CONTACT: Tom Clark, Federal Aviation Administration, Operations Support Group, Western Service Center, 1601 Lind Avenue SW., Renton, WA, 98057; telephone (425) 203-4511.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies controlled airspace at Charles M. Schulz-Sonoma County Airport, Santa Rosa, CA.

History

On June 24, 2016, the FAA published in the Federal Register a notice of proposed rulemaking (NPRM) (81 FR 41280), Docket No. FAA-2016-6967, to modify Class E airspace designated as an extension to a Class D airspace, and Class E airspace extending upward from 700 feet above the surface at Charles M. Schulz-Sonoma County Airport, Santa Rosa, CA. The FAA also proposed to update the geographical coordinates of the airport for both Class D and E airspace areas. Interested parties were invited to participate in this rulemaking effort by submitting written comments on the proposal to the FAA. No comments were received.

Subsequent to publication, the FAA found that the geographic coordinates of the airport already had been amended for Class D airspace, and Class E airspace designated as an extension (80 FR 48686, August 14, 2015); and for Class E airspace extending upward from 700 feet above the surface (80 FR 48426, August 13, 2015). As the only proposed change to the Class D airspace information was the geographic coordinates of the airport, the FAA is withdrawing the Class D change from this final rule.

Class E airspace designations are published in paragraphs 6004 and 6005, respectively, of FAA Order 7400.11A, dated August 3, 2016, and effective September 15, 2016, which is incorporated by reference in 14 CFR part 71.1. The Class E airspace designation listed in this document will be published subsequently in the Order.

Availability and Summary of Documents for Incorporation by Reference

This document amends FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Rule

This amendment to Title 14, Code of Federal Regulations (14 CFR) part 71 modifies Class E airspace designated as an extension to a Class D, at Charles M. Schulz-Sonoma County Airport, Santa Rosa, CA, by reducing the segment extending northwest of the airport to within 7.4 miles of the airport (from 14 miles), and adding a segment extending to 6.3 miles southeast of the airport. Additionally, part-time NOTAM language is added to the regulatory text consistent with the effective times of the Class D airspace area. Class E airspace extending upward from 700 feet above the surface is reduced to a polygon extending approximately 11 miles northwest, 11 miles southeast, and 12 miles south-southwest of the airport. This action removes reference to amending the geographic coordinates of the airport as the coordinates are correct. Therefore, an amendment to Class D airspace is not necessary as it only was correcting the airport coordinates.

Regulatory Notices and Analyses

The FAA has determined that this regulation only involves an established body of technical regulations for which frequent and routine amendments are necessary to keep them operationally current, is non-controversial and unlikely to result in adverse or negative comments. It, therefore: (1) Is not a “significant regulatory action”Prime; under Executive Order 12866; (2) is not a “significant rule”Prime; under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,”Prime; paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016, and effective September 15, 2016, is amended as follows:

Paragraph 6004. Class E Airspace Areas Designated as an Extension to a Class D or Class E Surface Area.

* * * * *

AWP CA E4 Santa Rosa, CA [Modified]

Santa Rosa, Charles M. Schulz-Sonoma County Airport, CA

(Lat. 38°30′35″ N., long. 122°48′46″ W.)

That airspace extending upward from the surface within 1.8 miles east and 2.8 miles west of the 342° bearing from the Charles M. Schulz-Sonoma County Airport, CA, extending from the 4.3 mile radius of the airport to 7.4 miles northwest of the airport, and that airspace extending upward from the surface within 1.2 miles each side of the 156° bearing from the airport extending from the 4.3 mile radius to 6.3 miles southeast of the airport. This Class E airspace area is effective during the specific dates and times established in advance by a Notice to Airmen. The effective date and time will thereafter be continuously published in the Chart Supplement.

* * * * *

Paragraph 6005. Class E Airspace Areas Extending Upward From 700 Feet or More Above the Surface of the Earth.

* * * * *

AWP CA E5 Santa Rosa, CA [Modified]

Santa Rosa, Charles M. Schulz-Sonoma County Airport, CA

(Lat. 38°30′35″ N., long. 122°48′46″ W.)

That airspace extending upward from 700 feet above the surface bounded by a line beginning at lat. 38°42′14″ N., long. 122°46′18″ W.; to lat. 38°38′58″ N., long. 122°59′10″ W.; to lat. 38°21′20″ N., long. 122°58′26″ W.; to lat. 38°19′23″ N., long. 122°54′00″ W.; to lat. 38°24′00″ N., long. 122°39'26″ W.; thence to the point of origin.

Issued in Seattle, Washington, on February 14, 2017.
Tracey Johnson,
Manager, Operations Support Group, Western Service Center.

[FR Doc. 2017-03549 Filed 2-24-17; 8:45 am]

BILLING CODE 4910-13-P